DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 15, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 3, 2019.
Donald P. Burger,
Chief, General Approvals and Permits Branch.

Application No. | Applicant | Regulation(s) affected | Nature of the special permits thereof
Special Permits Data
20844-N | PAVE NORTHWEST, INC | 173.203 | To authorize the transportation in commerce of non-DOT specification non-bulk packagings containing UN3264, corrosive liquid, acidic, inorganic, n.o.s. (contains aluminum sulfate). (mode 1).
20845-N | Lithos Energy Inc | 172.101(j), 173.185(a) | To authorize the transportation in commerce of low production lithium ion batteries exceeding 35 kg by cargo-only aircraft. (mode 4).
20846-N | CAPELLA SPACE CORP | 173.185(a) | To authorize the transportation in commerce of low production lithium ion batteries contained in equipment via motor vehicle and cargo-only aircraft. (mode 1, 4).
20848-N | Cummins Inc. | 172.101(j), 173.185(a) | To authorize the transportation in commerce of prototype and low productions lithium batteries in excess of 35 kg by cargo-only aircraft. (mode 4).
20850-N | INSITUFORM TECHNOLOGIES, LLC | 173.203, 173.242 | To authorize the transportation in commerce of non-DOT specification bulk packagings containing resin solutions. (mode 1).
20851-N | CALL2RECYCLE, INC | 172.200, 172.300, 172.400, 172.700(a) | To authorize the manufacture, mark, sale, and use of packaging for the purpose of transporting end-of-life/waste lithium ion cells and batteries and batteries contained in equipment. (mode 1).
20852-N | GENERAL DYNAMICS MISSION SYSTEMS, INC | 173.185(a)(1)(i) | To authorize the transportation in commerce of prototype lithium ion and lithium metal batteries contained in equipment by cargo aircraft. (mode 4).
20853-N | SOLIDENERGY SYSTEMS CORP | 173.185(a) | To authorize the transportation in commerce of prototype and low production lithium ion and lithium metal cells that are not individually packaged in inner packagings. (modes 1, 4).
20854-N | MORGAN FUEL & HEATING CO., INC | 180.417(a)(3)(ii) | To authorize the transportation in commerce of MC 331 cargo tank manufactured after September 1, 1995 that is missing the cargo tank manufacturers Certificate of Compliance. (mode 1).
20855-N | WEYLCHEM US INC | 173.304a(a)(1) | To authorize the transportation in commerce of vinyl chloride in non-DOT specification pressure receptacles. (mode 1).
20856-N | SAMSUNG SDI AMERICA, INC | 172.101(j) | To authorize the transportation of lithium ion batteries exceeding 35 kg net weight via cargo-only aircraft. (mode 4).
20857-N | SARTEN | 178.33a-7(a) | To authorize the manufacture, mark, sale, and use of non-DOT specification receptacles meeting the requirements of a DOT 2Q except that the minimum wall thickness is reduced. (modes 1, 2, 3, 4, 5).
20858-N | Cryoconcepts, LP | 173.304a(a)(1), 173.306(a) | To authorize the transportation in commerce of materials as limited quantities that are not otherwise authorized for the exception. (modes 1, 2, 3, 4, 5).
20860-N | REYNOLDS SYSTEMS, INC | 172.320, 173.54(a), 173.54(j), 173.56(b), 173.57, 173.58, 173.60 | To authorize the transportation in commerce of detonators and exploding foil deflagrating initiators that have not been approved in accordance with 173.56(b). (modes 1, 2, 3, 4).

[FR Doc. 2019-07342 Filed 4-12-19; 8:45 am]

BILLING CODE 4909-60-P